DEPARTMENT OF DEFENSE

Defense Acquisition Regulations System

Negotiation of a Reciprocal Defense Procurement Memorandum of Understanding With Italy

AGENCY: Defense Acquisition Regulations System, Department of Defense (DoD).

ACTION: Request for industry feedback regarding experience in public (defense) procurements conducted by Italy.

SUMMARY: DoD has had a Reciprocal Defense Procurement (RDP) Memorandum of Understanding (MOU) with Italy since September 11, 1978. DoD is commencing negotiation of an updated RDP MOU with Italy and is soliciting input from U.S. industry that has had experience participating in public defense procurements conducted by or on behalf of the Italian Ministry of Defense or Armed Forces. The current RDP MOU involves reciprocal waivers of buy-national laws by each country; the replacement RDP MOU is expected to continue these waivers. This means that Italy will continue to be listed as one of the “qualifying countries” in the Defense Federal Acquisition Regulation Supplement (DFARS) at 225.872-1, and that offers of products of Italy would continue to be exempt from the U.S. Buy American Act and Balance of Payments Program policy that would otherwise require DoD to add 50 percent to the price of the foreign products when evaluating offers. This also means that U.S. products should be exempt from any analogous “Buy Italian” law or policy applicable to procurements by the Italian Ministry of Defense or Armed Forces. DoD is interested in comments relating to the transparency, integrity, and general fairness of Italy's public (defense) procurement processes. DoD is also interested in comments relating to the degree of reciprocity that exists between the United States and Italy when it comes to the openness of defense procurements to offers of products of the other country.

DATES: Comments must be received by November 16, 2007.

ADDRESSES: You may submit comments to: Office of the Director, Defense Procurement and Acquisition Policy, ATTN: OUSD (AT&L) DPAP (CPIC), 3060 Defense Pentagon, Washington, DC 20301-3060; or by e-mail to nancy.dowling@osd.mil.

FOR FURTHER INFORMATION CONTACT: Ms. Nancy Dowling, telephone 703-697-9352.

SUPPLEMENTARY INFORMATION: The Reciprocal Defense Procurement MOUs DoD has with 21 countries are signed at the level of the Secretary of Defense and his counterpart. The purpose of RDP MOUs is to promote rationalization, standardization, and interoperability of defense equipment with allies and friendly governments. It provides a framework for ongoing communication regarding market access and procurement matters that affect effective defense cooperation. Based on the MOU, each country affords the other certain benefits on a reciprocal basis consistent with national laws and regulations. For 19 of the 21 RDP MOU countries, including Italy, these benefits include evaluation of offers without applying price differentials otherwise required by the Buy American Act and the Balance of Payments Program. For all RDP MOU countries, two additional benefits are that (1) the specialty metals restriction in 10 U.S.C. 2533b does not apply to products manufactured in the RDP MOU partner country, and (2) the United States does not include customs, taxes, and duties in the evaluation of offers and waives charges for customs and duties for procurements to which the RDP MOU applies.

The United States and Italy originally entered into a RDP MOU on September 11, 1978. All of the countries with which DoD has RDP MOUs are identified in DFARS 225.872-1. If DoD determines that it would continue to be inconsistent with the public interest to apply the restrictions of the Buy American Act to the acquisition of Italian defense equipment and supplies, Italy would remain on the list in DFARS 225.872-1(a).

RDP MOUs generally include language by which the parties agree that their defense procurements will be conducted in accordance with certain implementing procedures. These procedures relate to publication of notices of proposed purchases; the content and availability of solicitations for proposed purchases; notification to each unsuccessful offeror; feedback, upon request, to unsuccessful offerors concerning the reasons they were not allowed to participate in a procurement or were not awarded a contract; and providing for the hearing and review of complaints arising in connection with any phase of the procurement process to ensure that, to the extent possible, complaints are equitably and expeditiously resolved.

While DoD is evaluating Italy's laws and regulations in this area, DoD would benefit from U.S. industry's experience in participating in Italy's public defense procurements. Therefore, DoD is asking U.S. firms that have participated or attempted to participate in procurements by or on behalf of Italy's Ministry of Defense or Armed Forces to provide input as to whether the procurements were conducted in accordance with published procedures with transparency, integrity, fairness, and due process, and if not, the nature of the problems encountered.

Michele P. Peterson,
Editor, Defense Acquisition Regulations System.

[FR Doc. E7-20450 Filed 10-16-07; 8:45 am]

BILLING CODE 5001-08-P